DEPARTMENT OF ENERGY

Federal Energy Regulatory Commission

Combined Notice of Filings

Take notice that the Commission has received the following Natural Gas Pipeline Rate and Refund Report filings:

Filings Instituting Proceedings

Docket Numbers: RP19-238-000.

Applicants: Southwest Gas Transmission Company.

Description: § 4(d) Rate Filing: Stipulation in Lieu of Filing Form 501-G to be effective 11/2/2018.

Filed Date: 11/5/18.

Accession Number: 20181105-5000.

Comments Due: 5 p.m. ET 11/19/18.

Docket Numbers: RP19-239-000.

Applicants: P.H. Glatfelter Company, Pixelle Specialty Solutions LLC.

Description: Joint Petition for Temporary Waivers of Capacity Release Regulations and Policies, et al. of P.H. Glatfelter Company, et al. under RP19-239.

Filed Date: 11/2/18.

Accession Number: 20181102-5254.

Comments Due: 5 p.m. ET 11/9/18.

Docket Numbers: RP19-240-000.

Applicants: WestGas InterState, Inc.

Description: Pre-Arranged/Pre-Agreed (Petition for Approval of Prepackaged Stipulation and Settlement Agreement) Filing, et al. of WestGas InterState, Inc. under RP19-240.

Filed Date: 11/5/18.

Accession Number: 20181105-5084.

Comments Due: 5 p.m. ET 11/15/18.

Docket Numbers: RP18-1258-001.

Applicants: Kinder Morgan Louisiana Pipeline LLC.

Description: Compliance Filing—Docket No. RP18-1258 to be effective 10/29/2018.

Filed Date: 11/5/18.

Accession Number: 20181105-5179.

Comments Due: 5 p.m. ET 11/19/18.

Docket Numbers: RP19-217-001.

Applicants: Gulf Crossing Pipeline Company LLC.

Description: Tariff Amendment: Amendment to Filing in Docket No. RP19-217-000 to be effective 4/1/2019.

Filed Date: 11/5/18.

Accession Number: 20181105-5015.

Comments Due: 5 p.m. ET 11/19/18.

Docket Numbers: RP19-77-001.

Applicants: Trunkline Gas Company, LLC.

Description: Compliance filing FERC Form No. 501-G Report, Revised Exhibit A.

Filed Date: 11/5/18.

Accession Number: 20181105-5153.

Comments Due: 5 p.m. ET 11/19/18.

Docket Numbers: RP19-78-001.

Applicants: Panhandle Eastern Pipe Line Company, LP.

Description: Compliance filing FERC Form No. 501-G Report—Revised Exhibit A.

Filed Date: 11/5/18.

Accession Number: 20181105-5150.

Comments Due: 5 p.m. ET 11/19/18.

Docket Numbers: RP19-82-001.

Applicants: High Point Gas Transmission, LLC.

Description: eTariff filing per 1430: Updated 501-G Filing.

Filed Date: 11/5/18.

Accession Number: 20181105-5177.

Comments Due: 5 p.m. ET 11/19/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 7, 2018.
Nathaniel J. Davis, Sr.,
Deputy Secretary.

[FR Doc. 2018-24781 Filed 11-13-18; 8:45 am]

BILLING CODE 6717-01-P